INTERNATIONAL TRADE COMMISSION

[Investigation No. 731-TA-1034 (Final)]

Certain Color Television Receivers From China

Determination

On the basis of the record ¹ developed in the subject investigation, the United States International Trade Commission (Commission) determines, pursuant to section 735(b) of the Tariff Act of 1930 (19 U.S.C. 1673d(b)) (the Act), that an industry in the United States is materially injured by reason of imports from China of certain color television receivers,² provided for in subheadings and statistical reporting numbers 8528.12.28, 8528.12.3250, 8528.12.3290, 8528.12.36, 8528.12.40, 8528.12.44, 8528.12.48, 8528.12.52, and 8528.12.56 of the Harmonized Tariff Schedule of the United States, that have been found by the Department of Commerce (Commerce) to be sold in the United States at less than fair value (LTFV).

¹ The record is defined in § 207.2(f) of the Commission's Rules of Practice and Procedure (19 CFR 207.2(f)).

² For purposes of this investigation, the term “certain color television receivers” consists of complete and incomplete direct-view or projection-type cathode-ray tube color television receivers, with a video display diagonal exceeding 52 centimeters, whether or not combined with video recording or reproducing apparatus, which are capable of receiving a broadcast television signal and producing a video image. “Incomplete” CTVs are defined as unassembled CTVs with a color picture tube (i.e., cathode ray tube), printed circuit board or ceramic substrate, together with the requisite parts to comprise a complete CTV, when assembled. Specifically excluded from this investigation are computer monitors or other video display devices that are not capable of receiving a broadcast television signal.

Background

The Commission instituted this investigation effective May 2, 2003, following receipt of a petition filed with the Commission and Commerce by Five Rivers Electronic Innovations, LLC, Greeneville, TN; the International Brotherhood of Electrical Workers (IBEW), Washington, DC; and the IUE-CWA, Industrial Division of the Communications Workers of America, Washington, DC. The final phase of the investigation was scheduled by the Commission following notification of a preliminary determination by Commerce that imports of certain color television receivers from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of January 26, 2004 (69 FR 3601). The hearing was held in Washington, DC, on April 15, 2004, and all persons who requested the opportunity were permitted to appear in person or by counsel.

The Commission transmitted its determination in this investigation to the Secretary of Commerce on May 26, 2004. The views of the Commission are contained in USITC Publication 3659 (May 2004), entitled Certain Color Television Receivers from China: Investigation No. 731-TA-1034 (Final).

Issued: May 27, 2004.
By order of the Commission.
Marilyn R. Abbott,
Secretary.

[FR Doc. 04-12515 Filed 6-2-04; 8:45 am]

BILLING CODE 7020-02-P